DEPARTMENT OF DEFENSE

Office of the Secretary

[Transmittal No. 25-06]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-06, Policy Justification, and Sensitivity of Technology.

Dated: January 8, 2026.
Stephanie J. Bost,
Alternate OSD Federal Register Liaison Officer, Department of Defense.

BILLING CODE 6001-FR-P

BILLING CODE 6001-FR-C

Transmittal No. 25-06

Notice of Proposed Issuance of Letter of Offer Pursuant to Section 36(b)(1) of the Arms Export Control Act, as amended

(i) Prospective Purchaser: Government of Japan

(ii) Total Estimated Value:

Major Defense Equipment * | $750 million
Other | $150 million
TOTAL | $900 million

(iii) Description and Quantity or Quantities of Articles or Services Under Consideration for Purchase:

Major Defense Equipment (MDE):

Up to one hundred fifty (150) Standard Missile 6 (SM-6) Block I missiles

Non-Major Defense Equipment:

The following non-MDE items will also be included: MK 21 Mod 3 Vertical Launch System (VLS) canisters; component parts and support equipment; continued Engineering, Integration and Test (EI&T) materiel and support required to produce the SM-6 Block I missiles; special test and handling equipment; training and training equipment and aids; technical publications and data; United States (U.S.) Government and contractor engineering and technical assistance, including related studies and analysis support; and other related elements of logistics and program support.

(iv) Military Department: Navy (JA-P-AVJ)

(v) Prior Related Cases, if any: JA-P-AUQ, JA-P-AUW

(vi) Sales Commission, Fee, etc., Paid, Offered, or Agreed to be Paid: None known at this time

(vii) Sensitivity of Technology Contained in the Defense Article or Defense Services Proposed to be Sold: See Attached Annex

(viii) Date Report Delivered to Congress: January 31, 2025

* as defined in Section 47(6) of the Arms Export Control Act.

POLICY JUSTIFICATION

Japan—Standard Missile 6 (SM-6) Block I Missiles

The Government of Japan has requested to buy up to one hundred fifty (150) Standard Missile 6 (SM-6) Block I missiles. The following non-MDE items will also be included: MK 21 Mod 3 Vertical Launch System (VLS) canisters; component parts and support equipment; continued Engineering, Integration and Test (EI&T) materiel and support required to produce the SM-6 Block I missiles; special test and handling equipment; training and training equipment and aids; technical publications and data; U.S. Government and contractor engineering and technical assistance, including related studies and analysis support; and other related elements of logistics and program support. The estimated total cost is $900 million.

This proposed sale will support the foreign policy goals and national security objectives of the U.S. by improving the security of a major ally that is a force for political stability and economic progress in the Indo-Pacific region.

The proposed sale will improve Japan's capability to meet current and future threats by allowing the Japan Maritime Self Defense Force (JMSDF) to deploy the latest Standard Missile capabilities from their current and future AEGIS Weapon System (AWS) equipped surface combatants. The proposed sale will further enhance Japan's capability to protect Japan and local allied land forces and will significantly improve Japan's contribution to integrated air missile defense in the Indo-Pacific region. Japan will have no difficulty absorbing these articles and services into its armed forces.

The proposed sale of this equipment and support will not alter the basic military balance in the region.

The principal contractor will be RTX Corporation, located in Camden, AR. At this time, the U.S. Government is not aware of any offset agreement proposed in connection with this potential sale. Any offset agreement will be defined in negotiations between the purchaser and the contractor.

Implementation of this proposed sale will not require the assignment of any additional U.S. Government or contractor representatives to Japan.

There will be no adverse impact on U.S. defense readiness as a result of this proposed sale.

Transmittal No. 25-06

Notice of Proposed Issuance of Letter of Offer Pursuant to Section 36(b)(1) of the Arms Export Control Act

Annex

Item No. vii

(vii) Sensitivity of Technology:

1. The Standard Missile-6 (SM-6) is a surface Navy anti-air missile that provides area and ship self-defense. The missile is intended to contribute to raid annihilation by destroying manned fixed and rotary wing aircraft, unmanned aerial systems (UAs), land attack cruise missiles, and anti-ship cruise missiles in flight. It was designed to fulfill the need for a vertically launched, extended range missile compatible with the AEGIS Weapon System to be used against extended range threats at sea, near land, and over land. The SM-6 combines the tested legacy of Standard Missile-2 (SM-2) propulsion and ordnance with an active radio frequency seeker allowing for over-the-horizon engagements, enhanced capability at extended ranges, and increased firepower.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that Japan can provide substantially the same degree of protection for the sensitive technology being released as the U.S. Government. This proposed sale is necessary in furtherance of the U.S. foreign policy and national security objectives outlined in the Policy Justification.

5. All defense articles and services listed in this transmittal have been authorized for release and export to the Government of Japan.

[FR Doc. 2026-00442 Filed 1-12-26; 8:45 am]

BILLING CODE 6001-FR-P